DEPARTMENT OF TRANSPORTATION

Office of the Secretary

Aviation Proceedings, Agreements Filed During the Week Ending January 26, 2001

The following Agreements were filed with the Department of Transportation under the provisions of 49 U.S.C. Sections 412 and 414. Answers may be filed within 21 days after the filing of the application.

Docket Number: OST-2001-8771.

Date Filed: January 24, 2001.

Parties: Members of the International Air Transport Association.

Subject: PTC31 N&C/CIRC 0154 dated 23 January 2001, Mail Vote 104—Resolution 015b, TC31 North and Central Pacific Add-on Amounts, (USA/US Territories), Intended effective date: 1 April 2001.

Docket Number: OST-2001-8788.

Date Filed: January 26, 2001.

Parties: Members of the International Air Transport Association.

Subject: PTC23 EUR-SEA 0105 dated 19 December 2000, Europe-South East Asia Resolutions r1-r28, TC23 EUR-SEA 0106 dated 19 January 2001, (Technical Corrections), Minutes—PTC23 EUR-SEA 0107 dated 19 January 2001, Tables—PTC23 EUR-SEA Fares 0026 dated 5 January 2001, Intended effective date: 1 April 2001.

Dorothy Y. Beard,
Federal Register Liaison.

[FR Doc. 01-2968 Filed 2-2-01; 8:45 am]

BILLING CODE 4910-62-P